NATIONAL AERONAUTICS AND SPACE ADMINISTRATION

[Notice (23-030)]

National Space-Based Positioning, Navigation, and Timing Advisory Board; Meeting

AGENCY: National Aeronautics and Space Administration.

ACTION: Notice of meeting.

SUMMARY: In accordance with the Federal Advisory Committee Act, as amended, the National Aeronautics and Space Administration (NASA) announces a meeting of the National Space-Based Positioning, Navigation and Timing (PNT) Advisory Board. This will be the 28th meeting of the PNT Advisory Board.

DATES: Wednesday, May 3, 2023, from 9 a.m.-6 p.m., Eastern Time; and Thursday, May 4, 2023, from 9 a.m.-12 p.m., Eastern Time.

ADDRESSES: Arundel Ballroom, Crowne Plaza Annapolis, 173 Jennifer Rd. Annapolis, MD 21401.

FOR FURTHER INFORMATION CONTACT: Mr. James Joseph Miller, Designated Federal Officer, PNT Advisory Board, Space Operations Mission Directorate, NASA Headquarters, Washington, DC 20546, (202) 262-0929 or jj.miller@nasa.gov.

SUPPLEMENTARY INFORMATION: This meeting will be open to the public up to the capacity of the meeting room. In-person attendees will be requested to sign a register prior to entrance to the proceedings. Webcast details to observe the meeting livestream remotely will be available on the PNT Advisory Board website at: www.gps.gov/governance/advisory/.

The agenda for the meeting will include the following:

• Updates from PNT Advisory Board Subcommittees:

○ Communications and External Relations (CER) Subcommittee

○ Education and Science Innovation (ESI) Subcommittee

○ Emerging Capabilities, Applications and Sectors (ECAS) Subcommittee

○ International Engagement (IE) Subcommittee

○ Protect, Toughen and Augment (PTA) Subcommittee

○ Strategy, Policy and Governance (SPG) Subcommittee

• Review and approval of the PNT Advisory Board White Papers supporting the Recommendations submitted to the PNT Executive Committee (EXCOM) Co-chairs on January 27, 2023

• Expert briefings on:

○ Improving Global Positioning System (GPS) capabilities and Global Navigation Satellite Systems (GNSS) interoperable services

○ International Traffic in Arms Regulations (ITAR)/Export Administration Regulations (EAR) restrictions harming U.S. industry

○ GPS interference detection and mitigation applications

• Deliberations on any Findings and Recommendations

• Other PNT Advisory Board business and upcoming work plan schedule

For further information in advance, visit the PNT Advisory Board website at: https://www.gps.gov/governance/advisory/.

It is imperative that the meeting be held on this date to meet the scheduling availability of key participants.

Patricia Rausch,
Advisory Committee Management Officer, National Aeronautics and Space Administration.

[FR Doc. 2023-07635 Filed 4-11-23; 8:45 am]

BILLING CODE 7510-13-P